DEPARTMENT OF THE INTERIOR

Bureau of Land Management

[LLCO933000.L16100000. LXSILITI0000.DO0000.22X]

Notice of Intent To Prepare a Supplemental Environmental Impact Statement for the Colorado River Valley Field Office and Grand Junction Field Office Resource Management Plans, Colorado

AGENCY: Bureau of Land Management, Interior.

ACTION: Notice of intent.

SUMMARY: In compliance with the National Environmental Policy Act of 1969, as amended (NEPA), and the Federal Land Policy and Management Act of 1976, as amended (FLPMA), the Bureau of Land Management (BLM) Colorado River Valley Field Office (CRVFO), Silt, Colorado, and Grand Junction Field Office (GJFO), Grand Junction, Colorado, intend to prepare a supplemental environmental impact statement (EIS) for the CRVFO and GJFO Resource Management Plans (RMPs). This notice announces the beginning of the scoping process to solicit public involvement and identify issues.

DATES: This notice initiates the public scoping process for the supplemental EIS. Comments concerning the scope of analysis, potential alternatives, and identification of relevant issues may be submitted in writing until July 25, 2022. All comments must be received by July 25, 2022. Scoping meetings will be held virtually and will be announced at least 15 days in advance through local media, newspapers and the BLM website at: https://go.usa.gov/xtrgf.

ADDRESSES: You may submit comments related to this planning effort electronically via the ePlanning website at https://go.usa.gov/xtrgf. Comments may also be sent to BLM Upper Colorado River District, Attn: Supplemental EIS, 2518 H Road, Grand Junction, CO 81506. Documents pertinent to this proposal may be examined online at https://go.usa.gov/xtrgf.

FOR FURTHER INFORMATION CONTACT: Bruce Krickbaum, Project Manager, email ucrd-seis@blm.gov, telephone 970-240-5399; or at the mailing address shown earlier (see ADDRESSES). Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM CRVFO and GJFO intend to prepare a joint supplemental EIS for their respective RMPs. The planning area is in Garfield, Mesa, Eagle, Pitkin, Routt, Rio Blanco and Montrose counties, Colorado, and encompasses approximately 1.56 million acres of public land and 1.95 million acres of Federal mineral estate.

Purpose and Need

The purpose of the supplemental EIS is to supplement the EISs completed in 2014 for the CRVFO RMP and 2015 for the GJFO RMP by considering one or more additional alternatives with respect to the lands that are allocated as open or closed to oil and gas leasing in the planning decision areas, and to provide additional analysis of greenhouse gas emissions associated with the fluid mineral management alternatives considered in the final EISs and the supplemental EIS.

The need for this supplemental EIS is to address the issues identified by the court in litigation involving the Colorado River Valley RMP (Wilderness Workshop v. BLM, 16-cv-01822), as described in settlement agreements in that case and a related oil and gas leasing case (Wilderness Workshop v. BLM, 18-cv-00987), and to revisit the Grand Junction RMP, as described in BLM's motion for voluntary remand in litigation involving that RMP (Center for Biological Diversity v. BLM, 19-cv-02869).

Preliminary Alternatives

The BLM has identified the following preliminary issues that may arise in the consideration of alternatives with different acreages potentially eligible for oil and gas leasing and is accepting public input during the scoping period consistent with 43 CFR 1610.4-1: environmental consequences of downstream combustion of the oil and gas resources; economic impacts; impacts to affected biological, physical, and heritage resources, resource uses, and special designations; and impacts to recreation. A potential new alternative for each RMP would have no future oil and gas leasing in areas with no-known, low, and moderate fluid mineral potential. Under the potential new alternative, high and very high fluid mineral potential areas would remain open for oil and gas leasing, except for areas that were considered for closure in the conservation alternative (alternative C) from the proposed RMP/final EISs. Apart from oil and gas management planning, this potential alternative would retain existing management as described in the 2015 CRVFO and GJFO RMP Records of Decision and applicable amendments. The supplemental EIS will include an updated analysis of greenhouse gas emissions associated with fluid mineral management planning decisions. The BLM welcomes comments on the potential new alternative as well as suggestions for additional alternatives.

Planning Criteria

The BLM has identified the following preliminary planning criteria and is accepting public input during the scoping period consistent with 43 CFR 1610.4-2(c):

• The supplemental EIS will comply with NEPA, FLPMA, and other applicable laws, executive orders, regulations, and policy;

• Lands covered in the supplemental EIS will be Federal lands where BLM makes mineral leasing eligibility decisions and split-estate lands with Federal minerals;

• The supplemental EIS will address the issues identified by the court in Wilderness Workshop v. BLM, 16-cv-01822, by considering whether lands will be open or closed to Federal fluid mineral leasing (“reasonable alternatives to oil and gas leasing”) and analyzing the effects that combustion of oil and gas produced in the planning decision area may have on greenhouse gas emissions, as well as related mitigation;

• The scope of analysis will be appropriate to the planning scale and in accordance with Bureau-wide standards and program guidance; and

• The BLM will consider Tribal, State, and local plans that are germane in the development of land use plans for public lands, and specifically, the planning decisions considered in the supplemental EIS, to the extent the plans are consistent with the purposes, policies, and programs of Federal laws and regulations applicable to public lands.

Summary of Expected Impacts

The supplemental EIS will evaluate impacts from potential oil and gas leasing and future development to the extent they are reasonably foreseeable at the planning stage. Impacts are not known at this time except as described in the 2014 and 2015 final EISs. The analysis in the supplemental EIS may consider potential effects on wildlife, threatened and endangered species habitat, recreation, visual resources, water resources, air quality, cultural resources, special designations, social and economic conditions, fluid minerals, and other resources and uses. The BLM will use an interdisciplinary approach that incorporates the expertise of specialists in the relevant resource fields.

Schedule for the Decision-Making Process

The BLM will provide additional opportunities for public participation consistent with the NEPA and land use planning processes, including a 90-day comment period on the draft supplemental EIS and a 30-day public protest period and a 60-day Governor's consistency review on the final supplemental EIS. The draft supplemental EIS is anticipated to be available for public review in Spring 2023 and the final supplemental EIS is anticipated to be available for public protest in Winter 2023/2024 with a Record of Decision in Spring 2024.

Public Scoping Process

The BLM encourages comments concerning the scope of the analysis in the supplemental EIS, the potential new alternative, other potential alternatives, identification of issues for analysis, and any other information relevant to this project. You may submit comments by using one of the methods listed in the ADDRESSES section of this Notice. Public scoping meetings will be conducted virtually to explain project details. Representatives from BLM will be available to answer questions. All comments must be received by the date shown in the DATES section.

Lead and Cooperating Agencies

The BLM is the lead Federal agency for the supplemental EIS. The BLM has invited the following to participate as cooperating agencies: the seven counties that are entirely or partially in the planning area, municipalities that participated as cooperating agencies during the RMPs/EISs, Colorado Department of Natural Resources, Colorado Parks and Wildlife, Colorado River Water Conservation District, U.S. Fish and Wildlife Service, and U.S. Bureau of Reclamation.

Responsible Official

The Colorado State Director is the deciding official for this planning effort.

Nature of Decision To Be Made

The nature of the decision to be made will be the State Director's selection of land use planning decisions for managing BLM-administered lands under the principles of multiple use and sustained yield in a manner that best addresses the purpose and need. The decision resulting from this supplemental EIS will specify which areas are allocated as open or closed to oil and gas leasing in the decision area.

Additional Information

The BLM will identify, analyze, and consider mitigation to address the reasonably foreseeable impacts to resources from all reasonable alternatives and, in accordance with 40 CFR 1502.14(f), include appropriate mitigation measures not already included in the alternatives. Mitigation may include avoidance, minimization, rectification, reduction, or elimination over time, and compensation; and may be considered at multiple scales, including the landscape scale.

The BLM will utilize and coordinate the NEPA and land use planning processes for this planning effort to help support procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribes on a government-to-government basis in accordance with Executive Order 13175, BLM Manual section 1780, and other Departmental policies. Tribal concerns, including impacts on Indian trust assets and potential impacts to cultural resources, will be given due consideration. Federal, State, and local agencies, along with Tribes and stakeholders that may be interested in or affected by the supplemental EIS that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Stephanie Connolly,
Acting BLM Colorado State Director.

[FR Doc. 2022-13394 Filed 6-22-22; 8:45 am]

BILLING CODE 4310-JB-P